DEPARTMENT OF COMMERCE

National Oceanic and Atmospheric Administration

[I.D. 011303B]

Pacific Fishery Management Council; Public Meeting

AGENCY: National Marine Fisheries Service (NMFS), National Oceanic and Atmospheric Administration (NOAA), Commerce.

ACTION: Notice of a public meeting.

SUMMARY: The Pacific Fishery Management Council's (Council) Salmon Technical Team (STT) and Scientific and Statistical Committee (SSC) Salmon Subcommittee will hold a joint work session, which is open to the public, to review proposed salmon methodology changes.

DATES: The work session will be held Wednesday, February 5, 2003, from 8:30 a.m. to 5 p.m.

ADDRESSES: The work session will be held at the Holiday Inn Portland Airport Hotel, 8439 NE Columbia Boulevard, Portland, OR 97220; (503) 256-5000.

Council address: Pacific Fishery Management Council, 7700 NE Ambassador Place, Suite 200, Portland, OR 97220-1384.

FOR FURTHER INFORMATION CONTACT: Mr. Chuck Tracy, Staff Officer for Salmon and Pacific Halibut, Pacific Fishery Management Council; (503) 820-2280.

SUPPLEMENTARY INFORMATION: The purpose of the work session is to brief the STT and SSC on changes made to or proposed for the chinook and coho Fishery Regulation Assessment Models (FRAM), review the scientific bases for those changes, and compare results from the updated model with those from the previous version.

Although nonemergency issues not contained in the meeting agendas may come before the STT and the SSC subcommittee for discussion, those issues may not be the subject of formal action during these meetings. Action will be restricted to those issues specifically listed in this notice and any issues arising after publication of this notice that require emergency action under section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at (503) 820-2280 at least 5 days prior to the meeting date.

Dated: January 13, 2003.
Richard W. Surdi,
Acting Director, Office of Sustainable Fisheries, National Marine Fisheries Service.

[FR Doc. 03-1155 Filed 1-16-03; 8:45 am]

BILLING CODE 3510-22-S